DEPARTMENT OF THE INTERIOR

Bureau of Land Management

[CA-610-01-1220-AA]

Meeting of the California Desert District Advisory Council

SUMMARY: Notice is hereby given, in accordance with Public Laws 92-463 and 94-579, that the California Desert District Advisory Council to the Bureau of Land Management, U.S. Department of the Interior, will participate in a field tour of the BLM-administered public lands on Friday, September 7, 2001, from 7:30 a.m to 5:30 p.m., and meet in formal session on Saturday, September 8, from 8 a.m. to 5 p.m. The Saturday meeting will be held at the Miracle Springs Hotel and Spa, located at 10625 Palm Drive, Desert Hot Springs, California.

The Council and interested members of the public will assemble for the field tour at the Miracle Springs Hotel and Spa parking lot at 7:15 a.m. and depart 7:30 a.m. The public is welcome to participate in the tour, but should plan on providing their own transportation, drinks, and lunch.

All Desert District Advisory Council meetings are open to the public. Time for public comment may be made available by the Council Chairman during the presentation of various agenda items, and is scheduled at the beginning of the meeting for topics not on the agenda.

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

FOR FURTHER INFORMATION CONTACT: Doran Sanchez, BLM California Desert District External Affairs Officer, (909) 697-5220.

Dated: August 7, 2001.
Alan Stein,
Assistant District Manager.

[FR Doc. 01-21117 Filed 8-21-01; 8:45 am]

BILLING CODE 4310-40-U